DEPARTMENT OF AGRICULTURE

Submission for OMB Review; Comment Request

March 23, 2015.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by April 27, 2015 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Animal Welfare.

OMB Control Number: 0579-0036.

Summary of Collection: The Laboratory Animal Welfare Act (AWA) (Pub. L. 89-544) enacted August 24, 1966, and as amended, requires the U.S. Department of Agriculture, (USDA), to regulate the humane care and handling of dogs, cats, guinea pigs, hamsters, rabbits, and nonhuman primates. This legislation was the result of extensive demand by organized animal welfare groups and private citizens requesting a Federal law covering the transportation, care, and handling of laboratory animals. The Animal and Plant Health Inspection Service (APHIS), Animal Care (AC) has the responsibility to enforce the AWA (7 U.S.C. 2131-2156) and the provisions of 9 CFR, Subchapter A, which implements the AWA. The purpose of the AWA is to ensure that animals used in research facilities or for exhibition purposes are provided humane care and treatment. The AWA assures the humane treatment of animals during transportation in commerce and protects the owners from the theft of their animals by preventing the sale or use of animals that were stolen. APHIS will collect information using several forms of burden.

In addition, APHIS is merging 0579-0361 and 0579-0392 into this information collection, 0579-0036. Upon the approval of this information collection, APHIS will retire 0579-0361 and 0579-0392.

Need and Use of the Information: APHIS will collect health certificates, program of veterinary care, application for license and record of acquisition, disposition and transportation of animals, and itineraries, among other things. The information is used to ensure dealers, exhibitors, research facilities, carriers, etc., are in compliance with the AWA and regulations and standards promulgated under this authority of the Act.

Description of Respondents: Business or other for-profit; Farms; Not-for-profits; Individuals; State, Local, and Tribal Governments.

Number of Respondents: 13,985.

Frequency of Responses: Recordkeeping; Reporting: On occasion.

Total Burden Hours: 136,364.

Animal and Plant Health Inspection Service

Title: Poultry and Pork Products from Mexico Transiting the United States.

OMB Control Number: 0579-0145.

Summary of Collection: The Animal Health Protection Act (AHPA) of 2002 is the primary Federal law governing the protection of animal health. The law gives the Secretary of Agriculture broad authority to detect, control, or eradicate pests or diseases of livestock or poultry. The Animal & Plant Health Inspection Service (APHIS) of the U.S. Department of Agriculture (USDA) is the Agency charged with carrying out the disease prevention mission. This Agency regulates the importation of animals and animal products into the United States to guard against the introduction of exotic animal diseases. Disease prevention is the most effective method for maintaining a healthy animal population and enhancing the United States' ability to compete in exporting animals and animal products. The regulations under which APHIS conducts disease prevention activities are contained in Title 9, Chapter D, parts 91 through 99 of the Code of Federal Regulations.

Need and Use of the Information: APHIS will collect information to ensure that fresh pork and pork products, as well as poultry carcasses, parts, and products transiting the United States from Mexico pose a negligible risk of introducing classical swine fever and END into the United States. APHIS will also collect the name and address of the exporter, the origin and destination points of the commodities, how much and what type of commodity will be transiting; the intended port of entry, the date of transportation, the method and route of shipment, and other information concerning the transiting project that will enable APHIS to determine whether any disease introduction risk is associated with the transit and if so, what risk mitigation measures will be necessary to minimize that risk.

Description of Respondents: Business or other for-profit; Federal Government.

Number of Respondents: 29.

Frequency of Responses: Reporting: On occasion.

Total Burden Hours: 33.

Animal and Plant Health Inspection Service

Title: Pale Cyst Nematode; Quarantine and Regulations.

OMB Control Number: 0579-0322.

Summary of Collection: Under the Plant Protection Act (7 U.S.C. 7701-7772), The Secretary of Agriculture is authorized to prohibit or restrict the importation, entry, or movement of plants and plant pests to prevent the introduction of plant pests into the United States or their dissemination within the United States. The Animal and Plant Health Inspection Service (APHIS) amended the “Domestic Quarantine Notices” in 7 CFR part 301, subpart titled “Potato Cyst Nematode” (§ .86 through 301.86.9, referred to as the regulations) by quarantining parts of Bingham and Bonneville Counties, ID, due to the discovery of the Potato Cyst Nematode there and establishing restrictions on the interstate movement of regulated articles from the quarantined area.

Need and Use of the Information: APHIS will collect information using certificates, limited permits and compliance agreements to prevent the spread of PCN and to ensure that regulated articles can be moved safely from the quarantined area without spreading PCN. If APHIS did not collect this information, the spread of PCN in the United States could result in a loss of domestic or foreign makers for U.S. potatoes and other commodities.

Description of Respondents: Farms; Business or other for-profit.

Number of Respondents: 152.

Frequency of Responses: Reporting: On occasion.

Total Burden Hours: 342.

Animal and Plant Health Inspection Service

Title: Importation of Mangoes from Australia.

OMB Control Number: 0579-0391.

Summary of Collection: Under the Plant Protection Act (PPA) (7 U.S.C 7701—et seq.), the Secretary of Agriculture is authorized to carry out operations or measures to detect, eradicate, suppress, control, prevent, or retard the spread of plant pests new to the United States or not known to be widely distributed throughout the United States. The regulations in “Subpart—Fruits and Vegetables” (Title 7, CFR 319.56) prohibit or restrict the importation of fruits and vegetables into the U.S. from certain parts of the world. The Animal and Plant Health Inspection Service (APHIS) is responsible for carrying out these duties. APHIS has amended the fruits and vegetables regulations to allow, under certain conditions, the importation into the U.S. of commercial consignments of fresh mangoes from Australia.

Need and Use of the Information: Conditions for the importation of fresh mangoes from Australia include requirements for pest exclusion at the production site, irradiation treatment, fruit fly trapping inside and outside the production site, pest-excluding packinghouse procedures, port-of-entry inspections and accompanied by a phytosanitary certificate issued by the National Plant Protection Organization of Australia with an additional declaration confirming that the mangoes have been produced in accordance with the requirements. APHIS will use this information to allow the importation of commercial consignments of fresh mangoes from Australia into the United States. Failing to collect this information would cripple APHIS ability to ensure that mangoes from Australia are not carrying plant pests.

Description of Respondents: Federal Government.

Number of Respondents: 20.

Frequency of Responses: Reporting: On occasion.

Total Burden Hours: 50.

Charlene Parker,
Departmental Information Collection Clearance Officer.

[FR Doc. 2015-06973 Filed 3-26-15; 8:45 am]

BILLING CODE 3410-34-P